DEPARTMENT OF COMMERCE

National Oceanic and Atmospheric Administration

50 CFR Part 622

[Docket No. 160426363-7275-02; RTID 0648-XF373]

Coastal Migratory Pelagic Resources of the Gulf of America and Atlantic Region; 2025-2026 Commercial Accountability Measure for the King Mackerel Run-Around Gillnet Fishery

AGENCY: National Marine Fisheries Service (NMFS), National Oceanic and Atmospheric Administration (NOAA), Commerce.

ACTION: Temporary rule; commercial accountability measure.

SUMMARY: NMFS implements an accountability measure (AM) for king mackerel using run-around gillnet gear in the southern zone of the Gulf of America (Gulf) exclusive economic zone (EEZ) for the 2025-2026 fishing year. NMFS has determined that commercial landings of king mackerel harvested by run-around gillnet gear in the Gulf southern zone in the 2024-2025 fishing year have exceeded the component's annual catch limit (ACL). Therefore, NMFS implements the AM to reduce the commercial gillnet component ACL for king mackerel in the Gulf southern zone for the 2025-2026 fishing year.

DATES: This rule is effective December 30, 2025, through June 30, 2026.

FOR FURTHER INFORMATION CONTACT: Kelli O'Donnell, NMFS Southeast Regional Office, telephone: 727-824-5305, email: kelli.odonnell@noaa.gov.

SUPPLEMENTARY INFORMATION: The fishery for coastal migratory pelagic fish in the Gulf includes king mackerel, Spanish mackerel, and cobia, and is managed under the Fishery Management Plan for the Coastal Migratory Pelagic Resources of the Gulf and Atlantic Region (FMP). The FMP was prepared by the Gulf and South Atlantic Fishery Management Councils and NMFS, approved by the Secretary of Commerce, and is implemented by NMFS under the authority of the Magnuson-Stevens Fishery Conservation and Management Act (Magnuson-Stevens Act) by regulations at 50 CFR part 622. All weights for the Gulf migratory group of king mackerel (Gulf king mackerel) apply as either round or gutted weight.

The commercial fishery for Gulf king mackerel is divided into western, northern, and southern zones. The southern zone for Gulf king mackerel encompasses an area of the Gulf EEZ off Collier and Monroe Counties in south Florida, south of a line extending due west from the boundary of Lee and Collier Counties on the Florida west coast, and south of a line extending due east from the boundary of Monroe and Miami-Dade Counties on the Florida east coast (50 CFR 622.369(a)(1)(iii)). For an illustration of the king mackerel zones, see Figure 1 in Appendix G to part 622 at https://www.ecfr.gov/current/title-50/chapter-VI/part-622/appendix-Appendix%20G%20to%20Part%20622.

The commercial ACL for Gulf king mackerel is divided into separate ACLs for hook-and-line and run-around gillnet gear. The use of run-around gillnets for king mackerel is restricted to the Gulf southern zone. For the 2024-2025 fishing year, the king mackerel commercial gillnet quota (equivalent to the commercial gillnet ACL) is 671,328 pounds (lb) (304,509 kilograms (kg)) (50 CFR 622.384(b)(1)(iii)(B)). The fishing year for Gulf king mackerel in the southern zone is from July 1 through June 30 (50 CFR 622.7(b)(1)(i)) but the gillnet component has a seasonal closure from July 1 until 6 a.m. eastern time on the day after the Martin Luther King, Jr. Federal holiday (50 CFR 622.378(a)).

Regulations at 50 CFR 622.388(a)(1)(iii) state that if commercial landings of Gulf king mackerel caught by run-around gillnet gear in the southern zone exceed the commercial gillnet component ACL, then in the following fishing year, NMFS will reduce the commercial gillnet component ACL by the amount of the commercial gillnet component ACL overage in the prior fishing year. NMFS' most recent commercial landings data for the 2024-2025 fishing year indicate that the commercial gillnet component exceeded its ACL of 671,328 lb (304,509 kg) by 1,188 lb (539 kg) for the fishing year that ended on June 30, 2025. Accordingly, for the 2025-2026 fishing year and consistent with the commercial AM, NMFS reduces the commercial gillnet component ACL for the Gulf southern zone to 670,140 lb (303,970 kg).

The fishing season for Gulf king mackerel using run-around gillnet gear in the southern zone is currently closed and will open again at 6 a.m., local time, on January 20, 2026 (50 CFR 622.378(a)).

Classification

NMFS issues this action pursuant to section 305(d) of the Magnuson-Stevens Act. This action is required by 50 CFR 622.388(a)(1)(iii), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedure is unnecessary because the regulations associated with the commercial AM and commercial ACL for Gulf king mackerel have already been subject to notice and public comment, and all that remains is to notify the public of the adjusted commercial ACL for the 2025-2026 fishing year. Prior notice and opportunity for public comment are contrary to the public interest because of the need to notify the industry in advance of the next commercial fishing season.

For the reasons just stated, there is good cause under 5 U.S.C. 553(d)(3) to waive the 30-day delay in effectiveness of this action.

Authority: 16 U.S.C. 1801 et seq.

Dated: December 23, 2025.
Peter Cooper,
Acting Director, Office of Sustainable Fisheries, National Marine Fisheries Service.

[FR Doc. 2025-24028 Filed 12-29-25; 8:45 am]

BILLING CODE 3510-22-P